NATIONAL AERONAUTICS AND SPACE ADMINISTRATION

[Notice (09-045)]

Review of U.S. Human Space Flight Plans Committee; Meeting

AGENCY: National Aeronautics and Space Administration.

ACTION: Notice of meeting.

SUMMARY: In accordance with the Federal Advisory Committee Act, Public Law 92-463, as amended, the National Aeronautics and Space Administration announces a meeting of the Review of U.S. Human Space Flight Plans Committee. For specifics on agenda topics, see the SUPPLEMENTARY INFORMATION section of this notice.

DATES: Wednesday, June 17, 2009, 9 a.m.-5 p.m.

ADDRESSES: Carnegie Institution, 1530 P Street, NW., Washington, DC 20005, phone: 202-387-6400.

FOR FURTHER INFORMATION CONTACT: Mr. Philip R. McAlister, Office of Program Analysis and Evaluation, National Aeronautics and Space Administration, Washington, DC 20546. Phone 202-358-0712.

SUPPLEMENTARY INFORMATION: The meeting will be open to the public up to the seating capacity of the room. It is imperative that the meeting be held on this date to accommodate the scheduling priorities of the key participants. The agenda topics for the meeting include:

• Previous Studies on U.S. Human Space Flight.

• Current U.S. Space Policy.

• International Cooperation.

• Evolved Expendable Launch Vehicle.

• Commercial Human Space Flight Capabilities.

• Exploration Technology Planning.

P. Diane Rausch,
Advisory Committee Management Officer, National Aeronautics and Space Administration.

[FR Doc. E9-12661 Filed 5-29-09; 8:45 am]

BILLING CODE P